DEPARTMENT OF ENERGY

Federal Energy Regulatory Commission

[Docket Nos. CP13-532-000; RP13-1245-000]

Gulf South Pipeline Company, LP; Petal Gas Storage, L.L.C.; Gulf South Pipeline Company, LP; Notice of Application

On August 13, 2013, Gulf South Pipeline Company, LP (Gulf South) and Petal Gas Storage, L.L.C. (Petal) filed jointly with the Federal Energy Regulatory Commission (Commission) an abbreviated application under section 7(b) and 7(c) of the Natural Gas Act and Commission regulations seeking: (i) Authority for Petal to abandon certain storage capacity by lease to Gulf South, and (ii) authority for Gulf South to acquire by lease certain storage capacity from by Petal (“Leased Capacities”), as more fully described in the application.

Gulf South proposes to establish an optional Alternative No-Notice Service (NNS-A) that offers customers a menu of service choices intended to meet the requirements of local distribution companies and the electric generation market. Gulf South will utilize the Leased Capacities to support the storage component of its proposed NNS-A, which requires the unique operational capabilities of Petal's salt-dome storage facilities.

In Docket No. RP13-1245-000, Gulf South filed tariff records to implement its proposed NNS-A.

Questions regarding this application may be directed to J. Kyle Stephens, Vice President of Regulatory Affairs, Boardwalk Pipeline Partners, LP, 9 Greenway Plaza, Houston, Texas, 77046; by fax 713-479-1846 or email to kyle.stephens@bwpmlp.com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.ferc.gov. Persons unable to file electronically should submit an original and seven copies of the protest or intervention to the Federal Energy Regulatory Commission, 888 First Street NE., Washington, DC 20426. This filing is accessible on-line at http://www.ferc.gov. using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Accession Numbers: 20130813-5066, 20130813-5036.

Comment Date: 5:00 p.m. Eastern Time on September 3, 2013.

Dated: August 23, 2013.
Kimberly D. Bose,
Secretary.

[FR Doc. 2013-21203 Filed 8-29-13; 8:45 am]

BILLING CODE 6717-01-P